DEPARTMENT OF ENERGY

Federal Energy Regulatory Commission

[Project No. 13652-000-Montana]

Gary E. Hall and Rita Hall; Notice of Availability of Environmental Assessment

April 22, 2010.

In accordance with the National Environmental Policy Act of 1969, as amended, and the Federal Energy Regulatory Commission's (Commission's) regulations (18 CFR Part 380), Commission staff has reviewed the application for exemption from licensing for the 50-watt Potter Creek Hydroelectric Project, located in Flathead County, Montana, and has prepared an Environmental Assessment (EA). The proposed project would be built on private lands owned by the applicant and on 0.51 acres of U.S. Forest Service land in the Flathead National Forest. The EA contains the staff's analysis of the potential environmental impacts of the project and concludes that exempting the project from licensing, with appropriate environmental measures, would not constitute a major Federal action significantly affecting the quality of the human environment.

A copy of the EA is on file with the Commission and is available for public inspection. The EA may also be viewed on the Commission's Web site at http://www.ferc.gov using the “eLibrary” link. Enter the docket number excluding the last three digits in the docket number field to access documents. For assistance, contact FERC Online Support at FERCOnlineSupport@ferc.gov or toll-free at 1-866-208-3676, or for TTY, (202) 502-8659. You may also register online at http://www.ferc.gov/docs-filing/esubscription.asp to be notified via e-mail of new filings and issuances related to this or other pending projects. For assistance, contact FERC Online Support.

Please contact Jennifer Harper by telephone at (202) 502-6136 or by e-mail at Jennifer.Harper@ferc.gov if you have any questions.

Kimberly D. Bose,
Secretary.

[FR Doc. 2010-10062 Filed 4-29-10; 8:45 am]

BILLING CODE 6717-01-P